FEDERAL COMMUNICATIONS COMMISSION

Notice of Public Information Collection(s) Being Reviewed by the Federal Communications Commission, Comments Requested

November 29, 2007.

SUMMARY: The Federal Communications Commission, as part of its continuing effort to reduce paperwork burdens, invites the general public and other Federal agencies to take this opportunity to (PRA) of 1995 (PRA), Public Law 104-13. An agency may not conduct or sponsor a collection of information unless it displays a currently valid control number. Subject to the PRA, no person shall be subject to any penalty for failing to comply with a collection of information that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before February 8, 2008. If you anticipate that you will be submitting comments, but find it difficult to do so within the period of time allowed by this notice, you should advise the contact listed below as soon as possible.

ADDRESSES: You may submit all PRA comments by e-mail or U.S. post mail. To submit your comments by e-mail, send them to PRA@fcc.gov. To submit your comments by U.S. mail, mark them to the attention of Cathy Williams, Federal Communications Commission, Room 1-C823, 445 12th Street, SW., Washington, DC 20554.

FOR FURTHER INFORMATION CONTACT: For additional information about the information collection(s), contact Cathy Williams at (202) 418-2918 or send an e-mail to PRA@fcc.gov.

SUPPLEMENTARY INFORMATION:

OMB Control Number: 3060-0833.

Title: Implementation of Section 255 of the Telecommunications Act of 1996: Complaint Filings/Designation of Agents.

Form Number: Not applicable.

Type of Review: Extension of a currently approved collection.

Respondents: Individuals or households; Businesses or other for-profit entities; Not-for-profit institutions, Federal government; State, local or tribal governments.

Number of Respondents: 8,677.

Estimated Time per Response: 0.50-5.0 hours.

Frequency of Response: Recordkeeping requirement; On occasion and one-time reporting requirements; Third party disclosure requirement.

Total Annual Burden: 12,600 burden hours.

Total Annual Cost: $730,500.

Nature of Response: Required to obtain or retain benefits.

Nature and Extent of Confidentiality: Confidentiality is an issue to the extent that individuals and households provide personally identifiable information, which is covered under the FCC's system of records notice (SORN), FCC/CGB-1, “Informal Complaints and Inquiries.”

Privacy Impact Assessment: The Privacy Impact Assessment was completed on June 28, 2007. It may be reviewed by http://www.fcc.gov/privacyact/Privacy_Impact_Assessment.html.

Needs and Uses: The information collection requirements included under this OMB Control Number 3060-0833, enables the Commission to govern the filing of complaints as part of the implementation of Section 255 of the Telecommunications Act of 1996, which seeks to ensure that telecommunications equipment and services are available to all Americans, including those individuals with disabilities. In particular, Telecommunications service providers and equipment manufacturers are asked for a one-time designation of an agent who will receive and promptly handle voluntary consumer complaints of accessibility concerns. As with any complaint procedure, a certain number of regulatory and information burdens are necessary to ensure compliance with FCC rules.

Federal Communications Commission.
Marlene H. Dortch,
Secretary.

[FR Doc. E7-23823 Filed 12-6-07; 8:45 am]

BILLING CODE 6712-01-P